DEPARTMENT OF TRANSPORTATION

Federal Aviation Administration

1st Meeting—Special Committee 222—Inmarsat Aeronautical Mobile Satellite (Route) Services

AGENCY: Federal Aviation Administration (FAA), DOT.

ACTION: Notice of RTCA Special Committee 222 meeting.

SUMMARY: The FAA is issuing this notice to advise the public of a meeting of RTCA Special Committee 222: Inmarsat Aeronautical Mobile Satellite (Route) Services.

DATES: The meeting will be held January 15-16, 2009 from: 1 p.m. to 5:30 p.m. January 15 and 8 a.m. to Noon on January 16.

ADDRESSES: The meeting will be held at Cocoa Beach Hilton, Cocoa Beach, FL. (This meeting is held in conjunction with the AEEC Air-Ground Communications Subcommittee meeting.) For hotel information and driving directions see http://www.aviation-ia.com/events/AirGroundAnnounce.pdf

FOR FURTHER INFORMATION CONTACT: RTCA Secretariat, 1828 L Street, NW, Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 222, Inmarsat Aeronautical Mobile Satellite (Route) Services. The agenda will include:

January 15

• Opening Plenary Session (Greetings and Introductions).

• RTCA specific information: Presented by Dr. LaBerge.

• Overview of activity background.

• Background on ICAO/RTCA NGSS process.

• Background on MSV Auxiliary Terrestrial Component (ATCt) technology.

• Background on DO-210D issues.

• Review of Authorizing Document (Terms of Reference) as approved by Program Management Committee on October 2, 2008.

• Discussion of and action on committee planning items in Terms of Reference (TOR).

• Discussion of technical items as developed in Agenda Item 4.

• Technical approach to ATCt assessment: basic methodology, structure, effect on and input to RTCA documents.

• Technical approach to Swift Broadband AMS(R)S: basic methodology, structure, documents to be prepared, etc.

Discussions continued on Friday, as necessary.

January 16

• SC-222 work task organization and working groups, if necessary

• Discussion of proprietary issues, if any. RTCA, Inc. has specific policies regarding the inclusion of proprietary technology in an RTCA Standard document. This discussion will provide a preliminary look at whether the proprietary policies of RTCA will be relevant to the SC-222 deliberations.

• Discussion of meeting summary, if necessary

• Schedule next meeting, adjourn (No later than January 16, Noon)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC on December 11, 2008.
Francisco Estrada C.,
RTCA Advisory Committee.

[FR Doc. E8-30033 Filed 12-17-08; 8:45 am]

BILLING CODE 4910-13-P